DEPARTMENT OF TRANSPORTATION

Federal Aviation Administration

14 CFR Part 39

[Docket No. 2002-NM-140-AD]

RIN 2120-AA64

Airworthiness Directives; Dornier Model 328-100 and -300 Series Airplanes

AGENCY: Federal Aviation Administration, DOT.

ACTION: Notice of proposed rulemaking (NPRM).

SUMMARY: This document proposes the adoption of a new airworthiness directive (AD) that is applicable to certain Dornier Model 328-100 and -300 series airplanes. This proposal would require replacement of the screws in the aileron, rudder, and elevator trim tabs with new screws, and removal and re-installation of screws in the aileron, elevator and rudder trim tabs and the rudder spring tab, as applicable. This action is necessary to prevent reduced structural integrity of the screws in the aileron, elevator, and rudder trim tabs, and the rudder spring tab, due to countersinks that were not manufactured correctly, which could result in reduced controllability of the airplane. This action is intended to address the identified unsafe condition.

DATES: Comments must be received by October 25, 2002.

ADDRESSES: Submit comments in triplicate to the Federal Aviation Administration (FAA), Transport Airplane Directorate, ANM-114, Attention: Rules Docket No. 2002-NM-140-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-140-AD” in the subject line and need not be submitted in triplicate. Comments sent via the Internet as attached electronic files must be formatted in Microsoft Word 97 for Windows or ASCII text.

The service information referenced in the proposed rule may be obtained from Fairchild Dornier, Dornier Luftfahrt GmbH, P.O. Box 1103, D-82230 Wessling, Germany. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-140-AD.” The postcard will be date stamped and returned to the commenter.

Availability of NPRMs

Any person may obtain a copy of this NPRM by submitting a request to the FAA, Transport Airplane Directorate, ANM-114, Attention: Rules Docket No. 2002-NM-140-AD, 1601 Lind Avenue, SW., Renton, Washington 98055-4056.

Discussion

The Luftfahrt-Bundesamt (LBA), which is the airworthiness authority for Germany, notified the FAA that an unsafe condition may exist on certain Dornier Model 328-100 and -300 series airplanes. The LBA advises that the countersinks for the trim tab hinge fitting in the aileron, rudder, and elevator trim tabs, and the rudder spring tab, were not manufactured correctly. This may reduce the structural integrity of the associated screws due to incorrect installation. This condition, if not corrected, could result in reduced controllability of the airplane.

Explanation of Relevant Service Information

Dornier has issued the service bulletins listed in the following table:

Table—Service Bulletins
Service bulletin— | Describes procedures for— | For model—
SB-328-55-368, Revision 1, dated December 11, 2001 | Replacement of screws in the rudder and elevator trim tabs with new screws (including applying zinc-chromate putty, torquing the screws, and removing the squeezed zinc-chromate putty) | 328-100 series airplanes.
SB-328-55-422, dated February 8, 2002 | Removal and re-installation of the screws in the rudder and elevator trim tabs and the spring tab (including applying zinc-chromate putty, torquing the screws, and removing the squeezed zinc-chromate putty) | 328-100 series airplanes.
SB-328J-55-074, Revision 1, dated December 11, 2001 | Replacement of screws in the rudder and elevator trim tabs with new screws (including applying zinc-chromate putty, torquing the screws, and removing the squeezed zinc-chromate putty) | 328-300 series airplanes.
SB-328J-55-153, dated February 8, 2002 | Removal and re-installation of the screws in the rudder and elevator trim tabs and the spring tab (including applying zinc-chromate putty, torquing the screws, and removing the squeezed zinc-chromate putty) | 328-300 series airplanes.
SB-328-57-350, Revision 2, dated January 16, 2002 | Replacement of screws in the aileron trim tabs with new screws (including applying zinc-chromate putty, torquing the screws, and removing the squeezed zinc-chromate putty) | 328-100 series airplanes.
SB-328J-57-057, Revision 2, dated January 16, 2002 | Replacement of screws in the aileron trim tabs with new screws (including applying zinc-chromate putty, torquing the screws, and removing the squeezed zinc-chromate putty) | 328-300 series airplanes.
SB-328J-57-152, dated February 8, 2002 | Removal and re-installation of the screws in the aileron trim tab (including applying zinc-chromate putty, torquing the screws, and removing the squeezed zinc-chromate putty) | 328-300 series airplanes.

Accomplishment of the actions specified in the applicable service bulletins is intended to adequately address the identified unsafe condition. The LBA classified these service bulletins as mandatory and issued German airworthiness directives 2002-126/2 and 2002-127/2, both dated June 27, 2002, in order to assure the continued airworthiness of these airplanes in Germany.

FAA's Conclusions

These airplane models are manufactured in Germany and are type certificated for operation in the United States under the provisions of § 21.29 of the Federal Aviation Regulations (14 CFR 21.29) and the applicable bilateral airworthiness agreement. Pursuant to this bilateral airworthiness agreement, the LBA has kept the FAA informed of the situation described above. The FAA has examined the findings of the LBA, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the applicable service bulletins described previously.

Cost Impact

The FAA estimates that 53 Model 328-100 series airplanes and 48 Model 328-300 series airplanes of U.S. registry would be affected by this proposed AD, that it would take approximately 3 work hours per airplane to accomplish the proposed actions, at an average labor rate of $60 per work hour. Required parts would be supplied by the manufacturer at no cost to the operators. Based on these figures, the cost impact of the proposed AD on U.S. operators is estimated to be $18,180, or $180 per airplane.

The cost impact figure discussed above is based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Dornier Luftfahrt GMBH: Docket 2002-NM-140-AD.

Applicability: Airplanes listed in the following table of this AD, certificated in any category:

Table—Applicability
Model | Serial No.
328-100 series airplanes | 3005 through 3119 inclusive.
328-300 series airplanes | 3105 through 3196, excluding 3192 through 3194 inclusive.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To prevent reduced structural integrity of the screws in the aileron, elevator and rudder trim tabs, and the rudder spring tab due to countersinks that were not manufactured correctly, which could result in reduced controllability of the airplane, accomplish the following:

Screw Replacement or Removal and Re-Installation

(a) For Model 328-100 series airplanes: Within 2 months after the effective date of this AD, do the actions specified in paragraphs (a)(1), (a)(2), and (a)(3) of this AD; as applicable.

(1) Replace the screws in the aileron trim tab with new screws (including applying zinc-chromate putty, torquing the screws, and removing the squeezed zinc-chromate putty), per Dornier Service Bulletin SB-328-57-350, Revision 2, dated January 16, 2002.

(2) Replace the screws in the rudder and elevator trim tabs with new screws (including applying zinc-chromate putty, torquing the screws, and removing the squeezed zinc-chromate putty), per Dornier Service Bulletin SB-328-55-368, Revision 1, dated December 11, 2001.

(3) Except as provided by paragraph (b) of this AD, do the actions specified in paragraphs (a)(3)(i), (a)(3)(ii), and (a)(3)(iii) of this AD, per Dornier Service Bulletin SB-328-55-422, dated February 8, 2002.

(i) Remove and re-install the screws in the elevator trim tab (including applying zinc-chromate putty, torquing the screws, and removing the squeezed zinc-chromate putty).

(ii) Remove and re-install the screws in the rudder trim tab (including applying zinc-chromate putty, torquing the screws, and removing the squeezed zinc-chromate putty).

(iii) Remove and re-install the screws in the rudder spring tab (including applying zinc-chromate putty, torquing the screws, and removing the squeezed zinc-chromate putty).

(b) For Model 328-100 series airplanes on which the actions specified in Dornier Service Bulletin SB-328-55-368, Revision 1, dated December 11, 2001, have been accomplished, the requirements specified in paragraphs (a)(3)(i) and (a)(3)(ii) of this AD do not need to be accomplished.

(c) For Model 328-300 series airplanes: Within 2 months after the effective date of this AD, do the actions specified in paragraphs (c)(1), (c)(2), (c)(3), and (c)(4) of this AD; as applicable.

(1) For airplanes having serial numbers 3105 through 3174 inclusive: Replace the screws in the aileron trim tab with new screws (including applying zinc-chromate putty, torquing the screws, and removing the squeezed zinc-chromate putty), per Dornier Service Bulletin SB-328J-57-057, Revision 2, dated January 16, 2002.

(2) For airplanes having serial numbers 3105 through 3174 inclusive: Replace the screws in the rudder and elevator trim tabs with new screws (including applying zinc-chromate putty, torquing the screws, and removing the squeezed zinc-chromate putty), per Dornier Service Bulletin SB-328J-55-074, Revision 1, dated December 11, 2001.

(3) For airplanes having serial numbers 3105 through 3196, excluding serial numbers 3192 through 3194 inclusive: Except as provided by paragraph (d) of this AD, do the actions specified in paragraphs (c)(3)(i), (c)(3)(ii), and (c)(3)(iii) of this AD, per Dornier Service Bulletin SB-328J-55-153, dated February 8, 2002.

(i) Remove and re-install the screws in the elevator trim tab (including applying zinc-chromate putty, torquing the screws, and removing the squeezed zinc-chromate putty).

(ii) Remove and re-install the screws in the rudder trim tab (including applying zinc-chromate putty, torquing the screws, and removing the squeezed zinc-chromate putty).

(iii) Remove and re-install the screws in the rudder spring tab (including applying zinc-chromate putty, torquing the screws, and removing the squeezed zinc-chromate putty).

(4) For airplanes having serial numbers 3175 through 3196, excluding serial numbers 3192 through 3194 inclusive: Remove and re-install the screws in the aileron trim tab (including applying zinc-chromate putty, torquing the screws, and removing the squeezed zinc-chromate putty), per Dornier Service Bulletin SB-328J-57-152, dated February 8, 2002.

(d) For Model 328-300 airplanes on which the actions specified in Dornier Service Bulletin SB-328J-55-074, Revision 1, dated December 11, 2001, have been accomplished, the requirements specified in paragraphs (c)(3)(i) and (c)(3)(ii) of this AD do not need to be accomplished.

Alternative Methods of Compliance

(e) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(f) Special flight permits may be issued in accordance with §§ 21.197 and 21.199 of the Federal Aviation Regulations (14 CFR 21.197 and 21.199) to operate the airplane to a location where the requirements of this AD can be accomplished.

Note 3: The subject of this AD is addressed in German airworthiness directives 2002-126/2 and 2002-127/2, both dated June 27, 2002.

Issued in Renton, Washington, on September 16, 2002.
Vi L. Lipski,
Manager, Transport Airplane Directorate, Aircraft Certification Service.

[FR Doc. 02-24307 Filed 9-24-02; 8:45 am]

BILLING CODE 4910-13-P